DEPARTMENT OF COMMERCE

Economic Development Administration

Notice of Petitions by Firms for Determination of Eligibility To Apply for Trade Adjustment Assistance

AGENCY: Department of Commerce, Economic Development Administration

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 7/14/2011 Through 7/27/2011
Firm name | Address | Date accepted for investigation | Products
August Ninth Analyses, Inc | 6 Metro Tech Center, Brooklyn, NY 11201 | 26-Jul-11 | The firm designs, develops, and manufactures novel, simple to use automation and process monitoring products for industrial customers.
Methods Distributors and Manufacturers, Inc | 104 Sayton Road, Fox Lake, IL 60020 | 27-Jul-11 | The firm manufactures plastic and metal screws and fasteners for pressurized devices, such as fuel or compressed air pumps.
Nursery Supplies, Inc | 1415 Orchard Drive, Chambersburg, PA 17201 | 26-Jul-11 | The firm manufactures plastic containers for the wholesale nursery industry, including a broad range of molded and vacuum-formed containers.
Technautic International, Inc., dba Reliant Water Technologies | 141 Robert E. Lee Boulevard. #284, New Orleans, LA 70124 | 22-Jul-11 | The firm manufactures automated dissolved oxygen monitoring and control systems.
Yoder Lumber Co., Inc | 4515 Twp. Road—367, Millersburg, OH 44654 | 22-Jul-11 | The firm manufactures hardwood lumber and wood components.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: July 27, 2011.
Sunni Massey,
Eligibility Certifier.

[FR Doc. 2011-19508 Filed 8-1-11; 8:45 am]

BILLING CODE 3510-WH-P